DEPARTMENT OF TRANSPORTATION

Federal Aviation Administration

14 CFR Part 39

[Docket No. FAA-2006-24252; Directorate Identifier 2006-NM-062-AD; Amendment 39-14528; AD 2006-05-11 R1]

RIN 2120-AA64

Airworthiness Directives; Bombardier Model CL-600-2B19 (Regional Jet Series 100 & 440) Airplanes

AGENCY: Federal Aviation Administration (FAA), Department of Transportation (DOT).

ACTION: Final rule; request for comments.

SUMMARY: The FAA is revising an existing airworthiness directive (AD), which applies to certain Bombardier Model CL-600-2B19 (Regional Jet Series 100 & 440) airplanes. The existing AD currently requires revising the airworthiness limitations section of the Instructions for Continued Airworthiness of the maintenance requirements manual (MRM) by incorporating procedures for repetitive functional tests of the pilot input lever of the pitch feel simulator (PFS) units. That AD also requires new repetitive functional tests of the pilot input lever of the PFS unit, and corrective actions if necessary; and after initiating the new tests, requires removal of the existing procedures for the repetitive functional tests from the MRM. This AD retains the requirements of the existing AD and further clarifies the requirements of the AD. This AD results from a report that the shear pin located in the input lever of two PFS units failed due to fatigue. We are issuing this AD to prevent undetected failure of the shear pin of both PFS units simultaneously, which could result in loss of pitch feel forces and consequent reduced control of the airplane.

DATES: The effective date of this AD is March 27, 2006.

On March 27, 2006 (71 FR 12277, March 10, 2006), the Director of the Federal Register approved the incorporation by reference of a certain publication.

On February 13, 2004 (69 FR 4234, January 29, 2004), the Director of the Federal Register approved the incorporation by reference of Bombardier Temporary Revision 2B-1784, dated October 24, 2003, to the CL-600-2B19 Canadair Regional Jet Maintenance Requirements Manual, Part 2, Appendix B, “Airworthiness Limitations.”

We must receive any comments on this AD by May 30, 2006.

ADDRESSES: Use one of the following addresses to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Canadair, Aerospace Group, P.O. Box 6087, Station Centre-ville, Montreal, Quebec H3C 3G9, Canada, for service information identified in this AD.

FOR FURTHER INFORMATION CONTACT: Dan Parrillo, Aerospace Engineer, Systems and Flight Test Branch, ANE-172, New York Aircraft Certification Office, FAA, 1600 Stewart Avenue, Suite 410, Westbury, New York 11590; telephone (516) 228-7305; fax (516) 794-5531.

SUPPLEMENTARY INFORMATION:

Discussion

On February 28, 2006, we issued AD 2006-05-11, amendment 39-14508 (71 FR 12277, March 10, 2006). That AD applies to certain Bombardier Model CL-600-2B19 (Regional Jet Series 100 & 440) airplanes. That AD requires revising the airworthiness limitations section of the Instructions for Continued Airworthiness of the maintenance requirements manual (MRM) by incorporating procedures for repetitive functional tests of the pilot input lever of the pitch feel simulator (PFS) units. That AD also requires new repetitive functional tests of the pilot input lever of the PFS unit, and corrective actions if necessary; and after initiating the new tests, requires removal of the existing procedures for the repetitive functional tests from the MRM. That AD resulted from a report that the shear pin located in the input lever of two PFS units failed due to fatigue. The actions specified in that AD are intended to prevent undetected failure of the shear pin of both PFS units simultaneously, which could result in loss of pitch feel forces and consequent reduced control of the airplane.

Actions Since AD Was Issued

Since we issued that AD, we received telephone calls from three airplane operators. Two operators stated that the requirement to remove the functional check specified in paragraph (f) of the AD from the CL-600-2B19 Canadair Regional Jet Maintenance Requirements Manual was confusing and will cause an undue burden of possibly grounding airplanes. The third commenter stated that the reference to “aircraft maintenance manual” in paragraph (f) of the AD should be changed to “aircraft maintenance requirements manual” for clarification purposes. That operator stated that it has both types of manuals and was not sure which manual needed to be revised.

We agree with the operators that clarification is necessary. It was our intent that paragraph (f) of that AD refer to the “maintenance requirements manual”; we have revised paragraph (f) of this AD accordingly. It was our intent that after accomplishing the initial functional test required by paragraph (g) of that AD, operators could stop performing the requirements of paragraph (f) of that AD and the repetitive functional checks of the pilot input lever of the PFS units, Task R27-31-A024-01, specified in the Airworthiness Limitations (AWL) section of the Instructions for Continued Airworthiness. Therefore, we have revised paragraph (g) of this AD to clarify this point.

FAA's Determination and Requirements of This AD

This airplane model is manufactured in Canada and is type certificated for operation in the United States under the provisions of section 21.29 of the Federal Aviation Regulations (14 CFR 21.29) and the applicable bilateral airworthiness agreement.

Therefore, we are issuing this AD to revise AD 2006-05-11. This new AD retains the requirements of the existing AD and further clarifies the requirements of the AD.

Interim Action

This is considered to be interim action. The inspection reports that are required by this AD will enable the manufacturer to obtain better insight into the nature, cause, and extent of the failures of the shear pins of the PFS units, and eventually to develop final action to address the unsafe condition. Once final action has been identified, the FAA may consider further rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-24252; Directorate Identifier 2006-NM-062-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Dockets

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing Amendment 39-14508 (71 FR 12277, March 10, 2006) and adding the following new airworthiness directive (AD):

2006-05-11 R1 Bombardier, Inc. (Formerly Canadair): Amendment 39-14528. Docket No. FAA-2006-24252; Directorate Identifier 2006-NM-062-AD.

Effective Date

(a) The effective date of this AD is March 27, 2006.

Affected ADs

(b) This AD revises AD 2006-05-11.

Applicability

(c) This AD applies to Bombardier Model CL-600-2B19 (Regional Jet Series 100 & 440) airplanes, serial numbers 7003 through 7999 inclusive, and 8000 and subsequent, certificated in any category.

Unsafe Condition

(d) This AD results from a report that the shear pin located in the input lever of two pitch feel simulator (PFS) units failed due to fatigue. We are issuing this AD to prevent undetected failure of the shear pin of both PFS units simultaneously, which could result in loss of pitch feel forces and consequent reduced control of the airplane.

Compliance

(e) You are responsible for having the actions required by this AD performed within the compliance times specified, unless the actions have already been done.

Restatement of Certain Requirements of AD 2004-02-07

Revise Airworthiness Limitations (AWL) Section of Maintenance Requirements Manual

(f) For airplanes having serial numbers 7003 through 7999 inclusive: Within 14 days after February 13, 2004 (the effective date of AD 2004-02-07), revise the AWL section of the Instructions for Continued Airworthiness of the maintenance requirements manual by incorporating the functional check of the PFS pilot input lever, Task R27-31-A024-01, as specified in Bombardier Temporary Revision (TR) 2B-1784, dated October 24, 2003, to the CL-600-2B19 Canadair Regional Jet Maintenance Requirements Manual, Part 2, Appendix B, “Airworthiness Limitations,” into the AWL section.

New Requirements

New Repetitive Functional Tests and Corrective Actions

(g) Before the accumulation of 4,000 total flight hours, or within 100 flight hours after the effective date of this AD, whichever occurs later: Do a functional test of the pilot input lever of the PFS units to determine if the lever is disconnected, in accordance with the Accomplishment Instructions of Bombardier Alert Service Bulletin A601R-27-144, Revision A, dated February 14, 2006, including Appendix A, dated September 15, 2005. Repeat the test at intervals not to exceed 100 flight hours. Accomplishing the initial functional test terminates the requirements of paragraph (f) of this AD and the repetitive functional checks of the PFS pilot input lever, Task R27-31-A024-01, as specified in the AWL section of the Instructions for Continued Airworthiness of CL-600-2B19 Canadair Regional Jet Maintenance Requirements Manual.

(h) If any lever is found to be disconnected during any functional test required by paragraph (g) of this AD, do the actions specified in paragraphs (h)(1) and (h)(2) of this AD in accordance with the Accomplishment Instructions of Bombardier Alert Service Bulletin A601R-27-144, Revision A, dated February 14, 2006, including Appendix A, dated September 15, 2005.

(1) Before further flight, replace the defective PFS with a serviceable PFS in accordance with the Accomplishment Instructions of the alert service bulletin; and

(2) Within 30 days after removing the defective PFS, submit a test report to the manufacturer in accordance with the Accomplishment Instructions of the alert service bulletin. Under the provisions of the Paperwork Reduction Act (44 U.S.C. 3501 et seq.), the Office of Management and Budget (OMB) has approved the information collection requirements contained in this AD and has assigned OMB Control Number 2120-0056.

Previously Accomplished Actions

(i) Actions done before the effective date of this AD in accordance with Bombardier Alert Service Bulletin A601R-27-144, including Appendix A, dated September 15, 2005, are acceptable for compliance with the requirements of paragraph (g) of this AD.

Alternative Methods of Compliance (AMOCs)

(j)(1) The Manager, New York Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Canadian airworthiness directive CF-2005-41, dated December 22, 2005, also addresses the subject of this AD.

Material Incorporated by Reference

(l) You must use Bombardier Alert Service Bulletin A601R-27-144, Revision A, dated February 14, 2006, including Appendix A, dated September 15, 2005; and Bombardier Temporary Revision 2B-1784, dated October 24, 2003, to the CL-600-2B19 Canadair Regional Jet Maintenance Requirements Manual, Part 2, Appendix B, “Airworthiness Limitations;” as applicable, to perform the actions that are required by this AD, unless the AD specifies otherwise.

(1) On March 27, 2006 (71 FR 12277, March 10, 2006), the Director of the Federal Register approved the incorporation by reference of Bombardier Alert Service Bulletin A601R-27-144, Revision A, dated February 14, 2006, including Appendix A, dated September 15, 2005.

(2) On February 13, 2004 (69 FR 4234, January 29, 2004), the Director of the Federal Register approved the incorporation by reference of Bombardier Temporary Revision 2B-1784, dated October 24, 2003, to the CL-600-2B19 Canadair Regional Jet Maintenance Requirements Manual, Part 2, Appendix B, “Airworthiness Limitations.”

(3) Contact Bombardier, Inc., Canadair, Aerospace Group, P.O. Box 6087, Station Centre-ville, Montreal, Quebec H3C 3G9, Canada, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 21, 2006.
Kyle L. Olsen,
Acting Manager , Transport Airplane Directorate, Aircraft Certification Service.

[FR Doc. 06-2981 Filed 3-23-06; 3:18 pm]

BILLING CODE 4910-13-P